DEPARTMENT OF TRANSPORTATION

Federal Railroad Administration

[Docket Number FRA-2017-0059]

Petition for Waiver of Compliance

Under part 211 of Title 49 of the Code of Federal Regulations (CFR), this provides the public notice that on June 27, 2017 the San Bernardino Railroad Historical Society Inc. (SBRHS) petitioned the Federal Railroad Administration (FRA) for a waiver of compliance from certain provisions of the Federal railroad safety regulations contained at 49 CFR part 230, Steam Locomotive Inspection and Maintenance Standards. FRA assigned the petition docket number FRA-2017-0059.

SBRHS maintains and operates No. 3751, a 4-8-4 “Northern” type steam locomotive built by the Baldwin Locomotive Works in 1927 for the Atchison, Topeka & Santa Fe Railroad. SBRHS requests relief from performing the 1472 service day inspection (SDI), for No. 3751, as it pertains to the inspection of the boiler every 15 calendar years or 1472 service days under 49 CFR 230.17—One thousand four hundred seventy-two (1472) service day inspection. SBRHS is requesting an additional 139 calendar days before performing a 1472 SDI. The previous SDI was performed on August 14, 2002. Granting relief will allow No. 3751 an SDI period of 15 calendar years and 139 calendar days while not exceeding 1472 service days.

SBRHS sporadically operates No. 3751 for display in the Los Angeles area as well as excursions to San Diego and San Bernardino, CA and Williams, AZ. SBRHS's justification for requesting relief is that No. 3751 has only operated for a total of 141 service days within the 15-calendar year period. SBRHS anticipates approximately 10 additional service days for the locomotive during the requested time extension.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 11, 2017 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2017-15790 Filed 7-26-17; 8:45 am]

BILLING CODE 4910-06-P